DEPARTMENT OF JUSTICE

Antitrust Division

Notice Pursuant to the National Cooperative Research and Production Act of 1993—Telemanagement Forum

Notice is hereby given that, on December 3, 2001, pursuant to section 6(a) of the National Cooperative Research and Production Act of 1993, 15 U.S.C. 4301 et seq. (“the Act”), Telemanagement Forum (“the Forum”) has filed written notifications simultaneously with the Attorney General and the Federal Trade Commission disclosing changes in its membership status. The notifications were filed for the purpose of extending the Act's provisions limiting the recovery of antitrust plaintiffs to actual damages under specified circumstances. Specifically, Ipsaris, Chertsey, UNITED KINGDOM; Dorado Software, Folsom, CA; Intelliden, Inc., Colorado Springs, CO; Hellenic Telecoms Organization, Maroussi-Athens, GREECE; Edgeflow, Kannta, Ontario, CANADA; Alidian Networks, San Jose, CA; Lynx Photonic Networks, Rosh Ha'Ayin, ISRAEL; Rate Integration, McLean, VA; US Interactive, Cupertino, CA; IPDR.Org., Friday Harbor, WA; OEFEG, Vienna, AUSTRIA; RMG, Inc., Basking Ridge, NJ; Sybase, Inc., Emeryville, CA; Support.com, Redwood City, CA; Danet GMBH, Darmstadt, GERMANY; Celox Networks, Inc., South Borough, MA; Chiaro Networks, Inc., Richardson, TX; Cvidiya Networks, Inc., Tel Aviv, ISRAEL; Czech Telecom a.s.-Imaginet, o.z., Prague, CZECH REPUBLIC; Enition S.A., Issy Les Noulineaux, FRANCE; Intamission Ltd., Windsor, Berkshire, UNITED KINGDOM; Netcracker, Waltham, MA; Parc Technologies Ltd., London, UNITED KINGDOM; Sasktel International, Regina, Saskatchewan, CANADA; Senito Networks, Rockville, MD; Softalia, Inc., Chantilly, VA; Qcom, Inc., Marlboro, NJ; NTT Comware Corporation, Chiba, JAPAN; KT ICOM, Seoul, REPUBLIC OF KOREA; National Communication System, Arlington, VA; Stratecast Partners, Chico, CA; Accelight Networks, Ottawa, Ontario, CANADA; AFN Communications, Tulsa, OK; Aran Technology, Dublin, IRELAND; Innovance Networks, Ottawa, Ontario, CANADA; Movaz Network, Inc., Norcross, GA; Solid, Mountain View, CA; Yotta Networks, Inc., Plano, TX; St. Petersburg University of Telecommunications, St. Petersburg, RUSSIA; Satyam Computer Services Ltd., Alpharetta, GA; SAIC Limited, London, UNITED KINGDOM; Concept Wave Software, Mississauga, Ontario, CANADA; Coriolis Networks, Boxboro, MA; Extreme Networks, Pleasanton, CA; Skyoptix, Red Bank, NJ; City of Toronto, Toronto, Ontario, CANADA; Credit Suisse First Boston, San Francisco, CA; ZTE Technology Center, Shenzhen, PEOPLES REPUBLIC OF CHINA; Axxessit ASA, Bergen, NORWAY; Tertio Telecommunications, London, UNITED KINGDOM; Polaris Networks, San Jose, CA; Tim Peru S.A.C., Lima, PERU; Four Corners Telecommunication Corporation, Overland Park, KS; Bauer & Partner AG, The Business and Technology Group Europe, Neuss, GERMANY; Ovum Limited, London, UNITED KINGDOM; Swanson Consulting Inc., Mountainville, NY and Trinity College Dublin, Dublin, IRELAND have been added as parties to this venture.

Also, the following existing members have changed their names: Watchmark Limited is now called Watchmark Corporation, Bellevue, WA; Tibco/Inconcert is now called Tibco Software Inc., Cambridge, MA; DERA is now called QinetiQ, Farnborough, Hampshire, UNITED KINGDOM; Renaissance Strategy is now called Adventis Corporation, San Francisco, CA; GTS is now called Ebone Network Services, Hoeilaart, BELGIUM; Vodafone Airtouch plc is now called Vodaphone Group, Newbury, Berkshire, UNITED KINGDOM; Amdocs (Israel) Limited is now called Amdocs Ltd., Raanana, ISRAEL; Brokat is now called Blaze Advisor, Falls Church, VA; GMD FOKUS is now called Fraunhofer FOKUS, Berlin, GERMANY; and Business Management Group is now called Getronics Consulting BV, Utrecht, THE NETHERLANDS.

No other changes have been made in either the membership or planned activity of the group research project. Membership in this group research project remains open, and the Forum intends to file additional written notifications disclosing all changes in membership.

On October 21, 1988, the Forum filed its original notification pursuant to section 6(a) of the Act. The Department of Justice published a notice in the Federal Register pursuant to section 6(b) of the Act on December 8, 1988 (53 FR 49615).

The last notification was filed with the Department on June 6, 2001. A notice was published in the Federal Register pursuant to section 6(b) of the Act on October 15, 2001 (66 FR 52452).

Constance K. Robinson,
Director of Operations, Antitrust Division.

[FR Doc. 02-5530 Filed 3-7-02; 8:45 am]

BILLING CODE 4410-11-M